DEPARTMENT OF TRANSPORTATION

Federal Railroad Administration

[Docket Number FRA-2020-0030]

Petition for Waiver of Compliance

Under part 211 of title 49 of the Code of Federal Regulations (CFR), this document provides the public notice that on March 31, 2020, the American Short Line and Regional Railroad Association (ASLRRA), on behalf of its member railroads Allegheny Valley Railroad, Southwest Pennsylvania Railroad, Ohio Terminal Railway, and Delmarva Central Railroad, petitioned the Federal Railroad Administration (FRA) for a waiver of compliance from certain provisions of the Federal railroad safety regulations contained at 49 CFR part 236. FRA assigned the petition Docket Number FRA-2020-0030.

Specifically, ASLRRA seeks relief from 49 CFR 236.586, Daily or after trip test, and § 236.588, Periodic test. Section 236.586(a) provides that, except where tests prescribed by § 236.588 are performed at intervals of not more than two months, each locomotive equipped with an automatic cab signal or train stop or train control device operating in equipped territory shall be inspected for damage to the equipment and tested at least once each calendar day or within 24 hours before departure upon each trip. Section 236.588 requires that except as provided in § 236.586, periodic tests of the automatic train stop, train control, or cab signal apparatus be made at least once every 92 days, and on multiple-unit cars as specified by the carrier, subject to approval by FRA. ASLRRA petitions to increase the time between inspections under § 236.588 to 184 days for a five-year waiver period, subject to conditions, during which time it aims to show that there would be no degradation in safety resulting from this change.

ASLRRA states that like the locomotive controls covered under 49 CFR 229.23, today's automatic train stop, train control, and cab signal apparatus devices use microprocessor-based technology. This technology provides enhanced safety for the following reasons: (1) The microprocessor-based system has diagnostics that monitor the functioning of cab signal equipment and records faults, particularly with respect to features relevant to the periodic inspection; (2) major faults are instantly addressed; (3) minor faults are addressed through later data analysis; (4) in some cases, railroads have the capability of analyzing the data remotely, without the need for the locomotive to be shopped; and (5) if the system detects a failure, the system goes into fail-safe mode and triggers a penalty air brake application. ALSRRA contends performing signal inspections pursuant to § 236.588 in conjunction with and under the same schedule as the locomotive inspections under § 229.23(b) would increase efficiency without compromising safety.

A copy of the petition, as well as any written communications concerning the petition, is available for review online at www.regulations.gov and in person at the Department of Transportation's Docket Operations Facility, 1200 New Jersey Ave. SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Ave. SE, W12-140, Washington, DC 20590.

• Hand Delivery: 1200 New Jersey Ave. SE, Room W12-140, Washington, DC 20590, between 9 a.m. and 5 p.m., Monday through Friday, except Federal Holidays.

Communications received by May 29, 2020 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC.
John Karl Alexy,
Associate Administrator for Safety, Chief Safety Officer.

[FR Doc. 2020-07787 Filed 4-13-20; 8:45 am]

BILLING CODE 4910-06-P